FEDERAL EMERGENCY MANAGEMENT AGENCY

44 CFR Part 67

Docket No. FEMA-B-7416

Proposed Flood Elevation Determinations

AGENCY: Federal Emergency Management Agency (FEMA).

ACTION: Proposed rule.

SUMMARY: Technical information or comments are requested on the proposed base (1% annual chance) flood elevations (BFEs) and proposed BFE modifications for the communities listed below. The BFEs and modified BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the following table.

FOR FURTHER INFORMATION CONTACT: Matthew B. Miller, P.E., Chief, Hazards Study Branch, Mitigation Directorate, FEMA, 500 C Street SW., Washington, DC 20472, (202) 646-3461, or (e-mail) matt.miller@fema.gov.

SUPPLEMENTARY INFORMATION: FEMA proposes to make determinations of BFEs and modified BFEs for each community listed below, in accordance with Section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

National Environmental Policy Act. This proposed rule is categorically excluded from the requirements of 44 CFR Part 10, Environmental Consideration. No environmental impact assessment has been prepared.

Regulatory Flexibility Act. The Acting Administrator, Federal Insurance Administration and Mitigation certifies that this proposed rule is exempt from the requirements of the Regulatory Flexibility Act because proposed or modified BFEs are required by the Flood Disaster Protection Act of 1973, 42 U.S.C. 4104, and are required to establish and maintain community eligibility in the NFIP. No regulatory flexibility analysis has been prepared.

Regulatory Classification. This proposed rule is not a significant regulatory action under the criteria of Section 3(f) of Executive Order 12866 of September 30, 1993, Regulatory Planning and Review, 58 FR 51735.

Executive Order 12612, Federalism. This proposed rule involves no policies that have federalism implications under Executive Order 12612, Federalism, dated October 26, 1987.

Executive Order 12778, Civil Justice Reform. This proposed rule meets the applicable standards of Section 2(b)(2) of Executive Order 12778.

List of Subjects in 44 CFR Part 67

Administrative practice and procedure, Flood insurance, Reporting and recordkeeping requirements.

Accordingly, 44 CFR Part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376, § 67.4

2. The tables published under the authority of § 67.4 are proposed to be amended as follows:

State | City/town/county | Source of flooding | Location | # Depth in feet above ground. *Elevation in feet. (NGVD): Existing | # Depth in feet above ground. *Elevation in feet. (NGVD): Modified
California | Contra Costa County (Unincorporated Areas) | Murderer's Creek | At Pleasant Hill Road | None | *145
|  |  | Approximately 210 feet upstream of Withers Avenue | None | *148
Maps are available for inspection at the Public Works Department, 255 Glacier Drive, Martinez, California.
Send comments to The Honorable Gayle B. Uilkema, Chairman, Contra Costa County Board of Supervisors, c/o Clerk of the Board, 651 Pine Street, Martinez, California 94553.
| Pleasant Hill (City) Contra County | East Fork Grayson Lane | At Gregory Creek | None | *51
|  |  | Just upstream of Oak Park Boulevard | None | *72
|  | Murderer's Creek | At confluence with East Fork Grayson Creek | None | *51
|  |  | Approximately 3,000 feet upstream of Frontage Road | None | *135
Maps are available for inspection at the Public Works Department, 100 Gregory Lane, Pleasant Hill, California.
Send comments to The Honorable Suzanne Angeli, Mayor, City of Pleasant Hill, 100 Gregory Lane, Pleasant Hill, California 94523.
| Walnut Creek (City) Contra Costa County | East Fork Grayson Creek | Approximately 280 feet upstream of Oak Park Boulevard (in City of Pleasant Hill) | None | *73
|  |  | Approximately 150 feet downstream of Sunnyvale Avenue | None | *83
|  | Eccelston Avenue Tributary | At confluence with East Fork Grayson Creek | None | *80
|  |  | Just downstream of Putnam Road | None | *87
Maps are available for inspection at the Community Development Department, 1666 North Main Street, Walnut Creek, California.
Send comments to The Honorable Kathy Hicks, Mayor, City of Walnut Creek, c/o City Manager, P.O. Box 8039, Walnut Creek, California 94596.
Colorado | Florence (City) Fremont County | Oak Creek | Approximately 1,500 feet downstream of West Third Street | *5,170 | *5,166
|  |  | Just upstream of Denver & Rio Grande Western Railroad | *5,197 | *5,194
|  | Oak Creek Right Overbank | Approximately 170 feet upstream of West Seventh Street | None | *5,156
|  |  | Just upstream of Denver & Rio Grande Western Railroad | None | *5,192
Maps are available for inspection at 300 West Main Street, Florence, Colorado.
Send comments to The Honorable Gene Roeder, Mayor, City of Florence, 131 West Third Street, Florence, Colorado 81226.
North Dakota | Durbin (Township) Cass County | Maple River | Approximately 3,000 feet downstream of west bound Interstate 94 | None | *907
|  |  | Approximately 2,400 feet upstream of east bound Interstate 94 | None | *908
Maps are available for inspection at the Office of the Township Chairman, 3768-157 R Avenue, Southeast, Casselton, North Dakota.
Send comments to The Honorable Gerald Moderow, Chairman, Durbin Township Board, P.O. Box 1000, Casselton, North Dakota 58012.
| Mapleton (City) Cass County | Maple River | Northeast corner of City of Mapleton Corporate Limits | *904 | *903
|  |  | Along Interstate 94 within City of Mapleton Corporate Limits | *908 | *907
Maps are available for inspection at 1042 14th Avenue, Suite 101, West Fargo, North Dakota.
Send comments to The Honorable Kate Olsen, Mayor, City of Mapleton, P.O. Box 9, Mapleton, North Dakota 58059.
| Raymond (Township) (Cass County) | Maple River | At middle of eastern edge of Section 30 in Township 140 North Range 50 West | None | *903
|  |  | At southwestern corner of Section 30 in Township 140 North Range 50 West | None | *904
Maps are available for inspection at the Office of the Zoning Administration, 16365 33rd Street, Southeast, Mapleton, North Dakota.
Send comments to The Honorable Jim Hagenson, Chairman, Raymond Township Board, 16620 33rd Street, Southeast, Harwood, North Dakota 58042.
Washington | Prescott (City) Walla Walla County | Whetstone Gulch Overflow | Approximately 100 feet downstream of A Street | None | *1,036
|  |  | Approximately 40 feet upstream of Fourth Street | None | *1,040
|  | Mill Slough | Just upstream of C Street | None | *1,038
|  |  | Approximately 2,950 feet upstream of C Street | None | *1,049
|  | Mill Slough | Just upstream of G Street | None | *1,043
|  | Overflow | Approximately 1,140 feet upstream of G Street | None | *1,051
Maps are available for inspection at City Hall, 110 D Street, Prescott, Washington.
Send comments to The Honorable Chuck Carruthers, Mayor, City of Prescott, P.O. Box 27, Prescott, Washington 99348.
| Walla Walla County (Unincorporated Areas) | Mill Slough | Just upstream of C Street | None | *1,038
|  |  | Just downstream of Hart Road | None | *1,062
|  | Whetstone Gulch Overflow | Approximately 40 feet upstream of Fourth Street | None | *1,040
|  |  | Approximately 1,530 feet upstream of Fourth Street | None | *1,048
Maps are available for inspection at the Walla Walla County Regional Planning Office, 310 West Poplar, Suite 001, Walla Walla, Washington.
Send comments to The Honorable David G. Carey, Chairman, Walla Walla County Board of Commissioners, P.O. Box 1506, Walla Walla, Washington 99362.

(Catalog of Federal Domestic Assistance No. 83.100, “Flood Insurance.”)

Dated: June 18, 2001.
Robert F. Shea,
Acting Administrator, Federal Insurance Administration and Mitigation.

[FR Doc. 01-15927 Filed 6-25-01; 8:45 am]

BILLING CODE 6718-04-P